DEPARTMENT OF COMMERCE

National Oceanic and Atmospheric Administration

[RTID 0648-XA429]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Ecosystem and Ocean Planning (EOP) and the Summer Flounder, Scup, and Black Sea Bass Advisory Panels will hold a public webinar meeting.

DATES: The meeting will be held on Tuesday, September 22, 2020, from 9 a.m. to 12 p.m. See SUPPLEMENTARY INFORMATION for agenda details.

ADDRESSES: The meeting will take place over webinar with a telephone-only connection option. Details on how to connect to the webinar by computer and by telephone will be available at: http://www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The Council's EOP and Summer Flounder, Scup, and Black Sea Bass Advisory Panels will be meeting with the Atlantic States Marine Fisheries Commission (ASMFC) Summer Flounder, Scup, and Black Sea Bass Advisory Panel. The purpose of the meeting is to introduce advisory panel members to goals, process, and expectations associated with conducting a management strategy evaluation (MSE). Later this year, the Council will begin conducting an MSE as part of its Ecosystem Approach to Fisheries Management (EAFM) structured decision framework that will evaluate the biological and economic benefits of management alternatives to minimize discards in the recreational summer flounder fishery. Advisory panel members will listen to a series of background presentations on the EAFM process and an introduction to MSE and will then participate in a mock MSE stakeholder workshop using an example recreational issue to solicit feedback and input on management objectives.

A detailed agenda and background documents will be made available on the Council's website (www.mafmc.org) prior to the meeting.

Special Accommodations

The meeting is physically accessible to people with disabilities. Requests for sign language interpretation or other auxiliary aid should be directed to M. Jan Saunders, (302) 526-5251, at least 5 days prior to the meeting date.

Authority: 16 U.S.C. 1801 et seq.

Dated: September 1, 2020.
Tracey L. Thompson,
Acting Deputy Director, Office of Sustainable Fisheries, National Marine Fisheries Service.

[FR Doc. 2020-19632 Filed 9-3-20; 8:45 am]

BILLING CODE 3510-22-P